DEPARTMENT OF AGRICULTURE

Agricultural Marketing Service

[Docket No. TM-0011]

Notice of Request for Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension to a currently approved information collection for the Farmers Market Questionnaire.

DATES: Comments on this notice must be received by January 2, 2001.

FOR FURTHER INFORMATION CONTACT: Tim Payne, Wholesale and Alternative Markets, Transportation and Marketing, Agricultural Marketing Service, U.S. Department of Agriculture, 1400 Independence Ave., SW., Room 2642 South Building, Washington DC 20250-0269; 202-720-8317 and Fax 202-690-0031.

SUPPLEMENTARY INFORMATION: Title: Farmers Market Questionnaire.

OMB Number: 0581-0169.

Expiration Date of Approval: 12-31-2000.

Type of Request: Extension of a currently approved information collection.

Abstract: The Agricultural Marketing Service (AMS) is responsible for collecting data to provide market access for small and medium sized farmers. One of the elements of this function is to collect data on farmers markets throughout the country and publish this information. This information is critical to State and local governments ability to make decisions on the formation and management of local farmers markets. States and localities need this information not only to support small and medium sized farmers, but also to make decisions concerning rural business activities. Information will be collected on the size and growth of markets, consumers and farmers served, products sold, sales, days of operation, and management structure.

Estimate of Burden: Public reporting burden for this collection of information is estimated to average .25 hours per response.

Respondents: Farmers market managers.

Estimated Number of Respondents: 2,400.

Estimated Number of Responses per Respondent: .5.

Estimated Total Annual Burden on Respondents: 300 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Tim Payne, Wholesale and Alternative Markets, Transportation and Marketing, Agricultural Marketing Service, U.S. Department of Agriculture, 1400 Independence Ave., SW., Room 2642 South Building, Washington DC 20250-0269. All comments received will be available for public inspection during regular business hours at the same address.

All responses to this notice will be summarized and included in the request for OMB approval. All comments will become a matter of public record.

Dated: October 27, 2000.
James Caron,
Acting Deputy Administrator, Transportation and Marketing.

[FR Doc. 00-28144 Filed 11-1-00; 8:45 am]

BILLING CODE 3410-02-P